NATIONAL CREDIT UNION ADMINISTRATION

Sunshine Act Meeting Notice

TIME AND DATE: 10 a.m., Thursday, January 13, 2011.

PLACE: Board Room, 7th Floor, Room 7047, 1775 Duke Street, Alexandria, VA 22314-3428.

STATUS: Open.

Matters To Be Considered

1. Final Rule—Part 707 of NCUA's Rules and Regulations, Truth in Savings.

2. NCUA Annual Performance Budget 2011.

3. Interpretive Ruling and Policy Statement (IRPS) 11-1, Guidelines for the Supervisory Review Committee.

4. Insurance Fund Report.

TIME AND DATE: 11:30 a.m., Thursday, January 13, 2011.

PLACE: Board Room, 7th Floor, Room 7047, 1775 Duke Street, Alexandria, VA 22314-3428.

STATUS: Closed.

Matters To Be Considered

1. Insurance Appeals. Closed pursuant to exemptions (4), (6) and (7).

2. Consideration of Supervisory Activities (4). Closed pursuant to some or all of the following: exemptions (8), (9)(A)(ii) and 9(B).

FOR FURTHER INFORMATION CONTACT: Mary Rupp, Secretary of the Board, Telephone: 703-518-6304.

Mary Rupp,
Board Secretary.

[FR Doc. 2011-357 Filed 1-7-11; 4:15 pm]

BILLING CODE P